DEPARTMENT OF DEFENSE

GENERAL SERVICES ADMINISTRATION

NATIONAL AERONAUTICS AND SPACE ADMINISTRATION

[OMB Control No. 9000-0089: Docket No. 2017-0053; Sequence 3]

Submission for OMB Review; Request for Authorization of Additional Classification and Rate, Standard Form 1444

AGENCY: Department of Defense (DOD), General Services Administration (GSA), and National Aeronautics and Space Administration (NASA).

ACTION: Notice.

SUMMARY: Under the provisions of the Paperwork Reduction Act of 1995, the Regulatory Secretariat Division will be submitting to the Office of Management and Budget (OMB) a request to review and approve an extension of a previously approved information collection requirement concerning Request for Authorization of Additional Classification and Rate, Standard Form (SF) 1444. A notice was published in the Federal Register at 82 FR 20340 on May 1, 2017. No comments were received.

DATES: Submit comments on or before October 5, 2017.

ADDRESSES: Submit comments regarding this burden estimate or any other aspect of this collection of information, including suggestions for reducing this burden to: Office of Information and Regulatory Affairs of OMB, Attention: Desk Officer for GSA, Room 10236, NEOB, Washington, DC 20503. Additionally submit a copy to GSA by any of the following methods:

• Regulations.gov: http://www.regulations.gov. Submit comments via the Federal eRulemaking portal by searching the OMB control number 9000-0089. Select the link “Comment Now” that corresponds with “Information Collection 9000-0089, Request for Authorization of Additional Classification and Rate, SF 1444.” Follow the instructions provided on the screen. Please include your name, company name (if any), and “Information Collection 9000-0089, Request for Authorization of Additional Classification and Rate, SF 1444” on your attached document.

• Mail: General Services Administration, Regulatory Secretariat Division (MVCB), 1800 F Street NW., Washington, DC 20405. ATTN: Ms. Sosa/IC 9000-0089.

Instructions: Please submit comments only and cite Information Collection 9000-0089, in all correspondence related to this collection. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: Ms. Zenaida Delgado, Procurement Analyst, Federal Acquisition Policy Division, GSA, 202-969-7207 or email zenaida.delgado@gsa.gov.

SUPPLEMENTARY INFORMATION:

A. Purpose

Federal Acquisition Regulation (FAR) 22.406 prescribes labor standards for federally financed and assisted construction contracts subject to the Davis-Bacon and Related Acts (DBRA), as well as labor standards for non-construction contracts subject to the Contract Work Hours and Safety Standards Act (CWHSSA).

The recordkeeping requirements in this regulation, FAR 22.406, reflect the requirements cleared under OMB control numbers 1235-0023, 1235-0008, and 1235-0018 for 29 CFR 5.5(a)(1)(i), 5.5(c), and 5.15 (records to be kept by employers under the Fair Labor Standards Act (FLSA)). The regulation at 29 CFR 516 reflects the basic recordkeeping and reporting requirements for the laws administered by the Department of Labor Wage and Hour Division.

FAR 22.406-3, implements the recordkeeping and information collection requirements prescribed in 29 CFR 5.5(a)(1)(ii) cleared under OMB control number 1235-0023 (also prescribed at 48 CFR 22.406 under OMB control number 9000-0089), by providing SF 1444, Request for Authorization of Additional Classification and Rate, for the contractor and the Government to enter the recordkeeping and information collection data required by 29 CFR 5.5(a)(1)(ii) prior to transmitting the data to the Department of Labor.

B. Annual Reporting Burden

Number of Respondents: 3,831.

Responses per Respondent: 2.

Total Annual Responses: 7,662.

Review time per response: 0.5.

Total Burden Hours: 3,831.

C. Public Comments

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requester may obtain a copy of the justification from the General Services Administration, Regulatory Secretariat Division (MVCB), 1800 F Street NW., Washington, DC 20405, telephone 202-501-4755. Please cite OMB Control No. 9000-0089, Request for Authorization of Additional Classification and Rate, SF 1444, in all correspondence.

Dated: August 29, 2017.
Lorin S. Curit,
Director, Federal Acquisition Policy Division, Office of Government-wide Acquisition Policy, Office of Acquisition Policy, Office of Government-wide Policy.

[FR Doc. 2017-18676 Filed 9-1-17; 8:45 am]

BILLING CODE 6820-EP-P